DEPARTMENT OF AGRICULTURE

Agricultural Research Service

Notice of the Advisory Committee on Biotechnology and 21st Century Agriculture Meeting; Correction

AGENCY: Office of the Under Secretary, Research, Education, and Economics, USDA.

ACTION: Notice of meeting.

SUMMARY: The notice announced the USDA's August 27-28 meeting of the Advisory Committee on Biotechnology and 21st Century Agriculture (AC21). The notice was published in the Federal Register on August 6, 2012.

FOR FURTHER INFORMATION CONTACT: Michael Schechtman, 202-720-3817.

Correction

In the Federal Register of August 6, 2012 in FR Doc. 151, on page 46681 in the supplementary information section, correct, Para two, line six, to read as follows:

On August 27, 2012, if time permits, reasonable provision will be made for oral presentations of no more than five minutes each in duration. Comments may also be provided by Email or by fax to Dr. Schechtman at the addresses indicated above by no later than August 22, 2012. Please include your full name, address, and relevant affiliation in any comments submitted.

Yvette Anderson,
Federal Register Liaison Officer for ARS, ERS, and NASS.

[FR Doc. 2012-19652 Filed 8-14-12; 8:45 am]

BILLING CODE P